DEPARTMENT OF THE INTERIOR

Fish and Wildlife Service

Notice of Intent To Prepare an Environmental Impact Statement for the City of Santee Multiple Species Conservation Program Subarea Plan, San Diego County, CA

AGENCY: Fish and Wildlife Service, Interior.

ACTION: Notice of intent

SUMMARY: Pursuant to the National Environmental Policy Act (NEPA), the Fish and Wildlife Service (Service), advise the public that we intend to gather information necessary to prepare, in coordination with the City of Santee (Applicant), a joint Environmental Impact Statement/Environmental Impact Report (EIS/EIR) for the City of Santee's Subarea Plan (Subarea Plan) under the Multiple Species Conservation Program (MSCP) in accordance with section 10(a)(1)(B) of the Federal Endangered Species Act (ESA) and the State of California's Natural Community Conservation Planning Act.

The Service provides this notice to: Describe the proposed actions and possible alternatives; (2) advise other Federal and State agencies, affected tribes, and the public of our intent to prepare an EIS/EIR; (3) announce the initiation of a public scoping period; and (4) obtain suggestions and information on the scope of issues and alternatives to be included in the EIS/EIR.

DATES: One public meeting will be held on: Thursday, August 10, 2006, 6 p.m. to 7:30 p.m., Santee, CA. Written comments should be received on or before August 30, 2006.

ADDRESSES: The public meeting will be held at the City of Santee City Hall, Building 7 Meeting Room, 10601 Magnolia Avenue, Santee, California, 92071.

Information, written comments, or questions related to the preparation of the EIS/EIR and NEPA process should be submitted to Kathleen Brubaker, Division Chief, Carlsbad Fish and Wildlife Office, 6010 Hidden Valley Road, Carlsbad, California 92011 (facsimile 760-431-5902).

FOR FURTHER INFORMATION CONTACT: Kathleen Brubaker, Division Chief, Carlsbad Fish and Wildlife Office, 6010 Hidden Valley Road, Carlsbad, California 92011, (760) 431-9440.

SUPPLEMENTARY INFORMATION:

Reasonable Accommodation

Persons needing reasonable accommodations in order to attend and participate in the public meeting should contact Kathleen Brubaker as soon as possible (see FOR FURTHER INFORMATION CONTACT). In order to allow sufficient time to process requests, please call no later than one week before the public meeting. Information regarding this proposed action is available in alternative formats upon request.

Background

Section 9 of the Federal ESA (16 U.S.C. 1538) and Federal regulations prohibit the “take” of a fish or wildlife species listed as endangered or threatened. Under the ESA, the following activities are defined as take: to harass, harm, pursue, hunt, shoot, wound, kill, trap, capture or collect listed animal species, or to attempt to engage in such conduct (16 U.S.C. 1532). However, under section 10(a) of the ESA, we may issue permits to authorize “incidental take” of listed species. “Incidental take” is defined by the ESA as take that is incidental to, and not the purpose of, carrying out an otherwise lawful activity. Regulations governing permits for threatened species and endangered species are at 50 CFR 17.32 and 50 CFR 17.22, respectively.

Take of listed plant species is not prohibited under the ESA and cannot be authorized under a section 10 permit. We propose to include plant species on the permit in recognition of the conservation benefits provided for them under the Subarea Plan. In 1997, the Service approved the San Diego MSCP, a conservation program that contemplated the development of subarea plans by local jurisdictions located in San Diego County to effectuate the conservation outlined in the MSCP. The 1997 EIS/EIR, prepared for our decision to permit the San Diego MSCP, evaluated the City of Santee's draft Subarea Plan at the project level. We expect to tier off of the 1997 San Diego MSCP EIS, as appropriate, as we prepare this EIS/EIR on the City of Santee's revised draft Subarea Plan. The proposed Subarea Plan would comprehensively address how the City of Santee will manage its lands to conserve natural habitats and species while continuing to provide for development within the Subarea Plan.

The proposed Subarea Plan consists of several key components including an implementation process and structure, habitat preserve management guidelines, and a covered species list. In total, 48 species (15 plants, 33 animals) are proposed for coverage under the Subarea Plan. The proposed Subarea Plan addresses the effects on biological resources of all covered activities over the next 75 years. The proposed covered activities include public and private, as well as planned and conceptual projects.

The proposed Subarea Plan covers the corporate boundaries of the City of Santee (with the exception of the area covered by the Padre Dam Municipal Water District Plan) and includes approximately 10,300 acres. The Subarea Plan planning area is presently 55 percent developed and 45 percent undeveloped. Of the 10,300 acres in the planning area, roughly 9,020 acres are privately owned and are currently zoned or used for residential, commercial, industrial, or public/semi-public use. These privately owned lands represent the majority of the remaining natural habitats in the City of Santee and include the 2,589-acre Fanita Ranch. Another 510 acres are owned by the County of San Diego, mostly in the City of Santee's Town Center, which includes a segment of the San Diego River habitat corridor.

The Service and the Applicant are now considering components of the proposed conservation program. These components include take avoidance and minimization measures, monitoring, adaptive management, and take mitigation measures consisting of preservation, restoration, and enhancement of habitat.

Environmental Impact Statement/Environmental Impact Report

The Service, the Applicant, and the California Department of Fish and Game (CDFG) have selected P&D Consultants to prepare the Draft EIS/EIR. The joint document will be prepared in compliance with NEPA and the California Environmental Quality Act (CEQA). Although P&D Consultants will prepare the EIS/EIR, we will supervise the scope and content of the document for NEPA purposes, and the City of Santee will be responsible for the scope and content of the EIR for CEQA purposes.

The EIS/EIR will consider the proposed action and a reasonable range of alternatives. A detailed description of the proposed action and alternatives will be included in the EIS/EIR. It is anticipated that several alternatives will be developed, which may vary by level of conservation, impacts caused by the proposed activities, permit area, covered species, or a combination of these factors. These alternatives will address alternative actions that can achieve some or all of the proposed action's purposes and needs. Additionally, we will evaluate a No-Action alternative. Under the No-Action alternative, we would not issue a section 10(a)(1)(B) permit.

The EIS/EIR will also evaluate potentially significant impacts on biological resources, land use, and socioeconomic and other environmental issues that could occur directly or indirectly with implementation of the proposed action and alternatives. For all potential impacts, the EIS/EIR will identify mitigation measures, where feasible, to reduce these impacts to a level below significance.

We will conduct an environmental review of the EIS/EIR in accordance with the requirements of NEPA (42 U.S.C. 4321 et seq.), its implementing regulations (40 CFR 1500-1508), other applicable regulations, and our procedures for compliance with those regulations. We are furnishing this notice in accordance with 40 CFR 1501.7 of the NEPA implementing regulations, to obtain suggestions and information from other agencies and the public on the scope of issues and alternatives to be addressed in the EIS/EIR. The primary purpose of the scoping process is to identify important issues raised by the public that are related to the proposed action. We invite written comments from interested parties to help us identify the full range of issues related to the proposed action. You may submit written comments by mail or facsimile transmission (see ADDRESSES). We will also accept written comments at the public meeting. All comments received, including names and addresses, will become part of the official administrative record, and may be made available to the public.

Dated: July 25, 2006.
Ken McDermond,
Deputy Manager, California/Nevada Operations Office, Sacramento, California.

[FR Doc. 06-6585 Filed 7-28-06; 8:45 am]

BILLING CODE 4310-55-M